DEPARTMENT OF HEALTH AND HUMAN SERVICES

Office of the Secretary

Agency Information Collection Activities: Submission for OMB Review; Comment Request

The Department of Health and Human Services, Office of the Secretary publishes a list of information collections it has submitted to the Office of Management and Budget (OMB) for clearance in compliance with the Paperwork Reduction Act of 1995 (44 U.S.C. Chapter 35) and CFR 1320.5. The following are those information collections recently submitted to OMB.

1. Financial Summary of Obligation and Expenditure of Block Grant Funds (45 CFR 96.30). Public Law 101-510 amended 31 U.S.C. Chapter 15 to provide that, by the end of the fifth fiscal year after the fiscal year in which the Federal government obligated the funds, the account will be canceled. If valid charges to a canceled account are presented after cancellation, they may be honored only by charging them to a current appropriation account, not to exceed an amount equal to 1 percent of the total appropriations of that account. Because of our need to determine the status of grant accounts, we have determined that it is appropriate to require an annual report on obligations and/or expenditures from all grantees under the block grant programs. The expenditure information to be collected under 45 CFR 96.30 will allow the Department to determine aggregate obligations, expenditures, and available balances. The Department can then use the information to close the grant accounts in accordance with P.L. 101-510. Annual Responses: 620; Burden per Response: one hour; Total Annual Burden for Financial Summary: 620 hours.

OMB Desk Officer: Allison Eydt.

Copies of the information collection packages listed above can be obtained by calling the OS Reports Clearance Office on (202) 690-6207. Written comments and recommendations for the proposed information collection should be sent directly to the OMB desk officer designate above at the following address: Human Resources and Housing Branch, Office of Management and Budget, New Executive Office Building, Room 10235, 725 17th Street, N.W., Washington, D.C. 20503.

Comments may also be sent to Cynthia Agens Bauer, OS Reports Clearance Officer, Room 503H, Hubert H. Humphrey Building, 200 Independence Ave S.W., Washington, D.C. 20201.

Written comments should be received within 30 days of this notice.

Dated: March 3, 2000.
Dennis P. Williams,
Deputy Assistant Secretary, Budget.

[FR Doc. 00-5973 Filed 3-10-00; 8:45 am]

BILLING CODE 4150-04-M